DEPARTMENT OF ENERGY

Federal Energy Regulatory Commission

[Docket No. EL01-30-000]

South Carolina Public Service Authority v. Duke Energy Corporation; Notice of Complaint

January 31, 2001.

Take notice that on January 30, 2001, South Carolina Public Service Authority (Santee Cooper) filed a complaint and request for fast track procedures against Duke Energy Corporation, pursuant to Rule 206(h) of the Commission's Rules of Practice and Procedure, 18 CFR Section 385.206(h), the Commission for the following relief:

(1) Duke Energy Transmission (Duke ET), a division of Duke Energy Corporation should be directed to find that Available Transfer Capability (ATC) exists for the transmission of power under a sales agreement Santee Cooper has entered into in support of wholesale sales by Santee Cooper that replace sales traditionally made by Duke Power, another division of Duke Power Corporation.

(2) Duke Power should be directed to make power available under the power sales agreement between Duke Power and Santee Cooper for transmission to Santee Cooper's wholesale customer, Saluda River, without requiring Santee Cooper to purchase unnecessary transmission service from Duke ET.

(3) In the event Santee Cooper is compelled by Duke Power to purchase unnecessary transmission service prior to the resolution of this proceeding, the Commission should require Duke Power to refund such revenues as are collected.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before February 9, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before February 9, 2001. Comments and protests may be filed electronically via the internet in lieu of paper. See, 18 CFR 385.2001(a)(1)(iii) and the instructions on the Commission's web site at http://www.ferc.fed.us/efi/doorbell.htm.

David P. Boergers,
Secretary.

[FR Doc. 01-3002 Filed 2-5-01; 8:45 am]

BILLING CODE 6717-01-M